DEPARTMENT OF AGRICULTURE

Forest Service

Notice of New Fee Site; Federal Lands Recreation Enhancement Act (Title VIII, Pub. L. 108-447)

AGENCY: Carson National Forest, USDA Forest Service.

ACTION: Notice of new fee site.

SUMMARY: The Carson National Forest is proposing to charge a $175 fee for the overnight rental of the Aldo Leopold House and a $50 fee for the overnight rental of the Lagunitas Guard Station. Neither facility has been available for recreation use prior to this date. Rentals of other cabins in the Southwestern Region have shown that people appreciate and enjoy the availability of historic rental cabins. Funds from both the rentals will be used for the continued operation and maintenance of each of the facilities. These fees are only proposed and will be determined upon further analysis and public comment.

DATES: Send any comments about these fee proposals by August 2016 so comments can be compiled, analyzed and shared with a Recreation Resource Advisory Committee. Should the fee proposal move forward, both rentals will likely be available May 2017.

ADDRESSES: Forest Supervisor, Carson National Forest, 208 Cruz Alta Road, Taos, NM 87557.

FOR FURTHER INFORMATION CONTACT: Sharon Cuevas, Recreation Fee Coordinator, (505) 842-3235.

SUPPLEMENTARY INFORMATION: The Federal Recreation Lands Enhancement Act (Title VII, Pub. L. 108-447) directed the Secretary of Agriculture to publish a six month advance notice in the Federal Register whenever new recreation fee areas are established.

This new fee will be reviewed by a Recreation Resource Advisory Committee prior to a final decision and implementation.

Currently no Federal or State agencies in the state of New Mexico offer over-night rentals of this type. Arizona, the neighboring state in Region 3, provides several historic properties for public rental and that program has become very successful.

The house consists of a 4 bedroom Craftsman Style Bungalow home that was built by Aldo Leopold in 1912 when he was the new Forest Supervisor on the Carson National Forest for himself and his new wife Estella Luna Ortero Bergere. The Leopold House is located in the small village of Tres Piedras New Mexico and is a one and a half story home with a large front porch. The interior of the first floor has four rooms that include a dining room, kitchen, library and bedroom. A large stone fireplace is the focal point of the home. The upstairs of the home includes 3 bunk style bedrooms. The home was restored by volunteers and the Forest Service in 2005 and has running water, electricity, propane heat and is fully furnished.

The Lagunitas Guard Station is a small single room cabin located in a remote setting approximately 20 miles west of Tres Piedras New Mexico. It is a simple facility, with no electricity, trash service or running water. The Guard Station is located adjacent to the small primitive Lagunitas Campground and the Lagunitas Lakes. For those visitors willing to make the long drive, the setting will not disappoint.

A business analysis of the Aldo Leopold House and Lagunitas Guard Station has shown that people desire having this sort of recreation experience on the Carson National Forest. A market analysis indicates that the $175/per night fee for the Leopold House and $50/per night for the Lagunitas Guard Station is both reasonable and acceptable for this sort of unique recreation experience.

People wanting to rent either facility will need to do so through the National Recreation Reservation Service, at www.recreation.gov or by calling 1-877-444-6777. The National Recreation Reservation Service charges a $9 fee for reservations.

Dated: April 19, 2016.
James Duran,
Carson National Forest Supervisor.

[FR Doc. 2016-10039 Filed 4-28-16; 8:45 am]

BILLING CODE 3411-15-P